SECURITIES AND EXCHANGE COMMISSION

Submission for OMB Review; Comment Request

Upon Written Request, Copies Available From: U.S. Securities and Exchange Commission, Office of Investor Education and Advocacy, Washington, DC 20549-0213.

Extension:

Rule 17Ad-17; OMB Control No. 3235-0469; SEC File No. 270-412.

Notice is hereby given that pursuant to the Paperwork Reduction Act of 1995 (44 U.S.C. 3501 et seq.), the Securities and Exchange Commission (“Commission”) has submitted to the Office of Management and Budget a request for extension of the previously approved collection of information discussed below.

• Rule 17Ad-17 Transfer Agents' Obligation to Search for Lost Securityholders.

Rule 17Ad-17 (17 CFR 240.17Ad-17) requires approximately 608 registered transfer agents to conduct searches using third party database vendors to attempt to locate lost securityholders. The staff estimates that the average number of hours necessary for each transfer agent to comply with Rule 17Ad-17 is five hours annually. The total burden is approximately 3,040 hours annually for all transfer agents.¹ The cost of compliance for each individual transfer agent depends on the number of lost accounts for which it is responsible. Based on information received from transfer agents, we estimate that the annual cost industry wide is approximately $3.3 million.

¹ The 60-day notice for this Paperwork Reduction Act extension referred to a burden of 2,432 hours. See 73 FR 32750 (Jun. 10, 2008). This burden was incorrect. The correct burden is 3,040 hours.

The retention period for the recordkeeping requirement under Rule 17Ad-17 is three years. The recordkeeping requirement under Rule 17Ad-17 is mandatory to assist the Commission and other regulatory agencies with monitoring transfer agents and ensuring compliance with the rule. This rule does not involve the collection of confidential information. Please note that an agency may not conduct or sponsor, and a person is not required to respond to, a collection of information unless it displays a currently valid control number.

Comments should be directed to (i) Desk Officer for the Securities and Exchange Commission, Office of Information and Regulatory Affairs, Office of Management and Budget, Room 10102, New Executive Office Building, Washington, DC 20503 or by sending an e-mail to: Alexander_T._Hunt@omb.eop.gov; and (ii) Lewis W. Walker, Acting Director/Chief Information Officer, Securities and Exchange Commission, c/o Shirley Martinson, 6432 General Green Way, Alexandria, VA 22312 or send an e-mail to: PRA_Mailbox@sec.gov. Comments must be submitted within 30 days of this notice.

Dated: August 25, 2008.
Florence E. Harmon,
Acting Secretary.

[FR Doc. E8-20065 Filed 8-28-08; 8:45 am]

BILLING CODE 8010-01-P